COMMISSION ON CIVIL RIGHTS

Notice of Public Meetings of the Colorado Advisory Committee to the U.S. Commission on Civil Rights

AGENCY: Commission on Civil Rights.

ACTION: Notice of public meetings.

SUMMARY: Notice is hereby given, pursuant to the provisions of the rules and regulations of the U.S. Commission on Civil Rights (Commission) and the Federal Advisory Committee Act that the Colorado Advisory Committee (Committee) to the U.S. Commission on Civil Rights will convene a virtual briefing examining antisemitism at University of Colorado at Denver, Community College of Denver and Metropolitan State University of Denver on July 16, 2025 at 2:00-4:00 p.m. MT. Additionally, the Committee will convene on July 31, 2025 at 2:00-3:00 p.m. MT for the purpose of debriefing testimony and planning for a third briefing.

DATES:

Wednesday, July 16, 2025, at 2:00 p.m. Mountain Time.

Thursday, July 31, 2025, at 2:00 p.m. Mountain Time.

ADDRESSES: The meetings will be held via Zoom.

7/16/25 Briefing Link (Audio/Visual): https://www.zoomgov.com/webinar/register/WN_diOnbRWtRwOynoNxfDhLmA.

Join by Phone (Audio Only): 1-833 435 1820 USA Toll Free; Meeting ID: 160 700 7541 #.

7/31/25 Meeting Link (Audio/Visual): https://www.zoomgov.com/webinar/register/WN_n1RhVQ2WR-Kpm9gKxoTv_Q.

Join by Phone (Audio Only): 1-833 435 1820 USA Toll Free; Meeting ID: 160 859 1704 #.

FOR FURTHER INFORMATION CONTACT: Ana Fortes, Designated Federal Official, at afortes@usccr.gov. or by phone at 202-681-0857.

SUPPLEMENTARY INFORMATION: Any interested member of the public may attend the meetings via the links above. Before adjourning the meetings, the committee chair will announce that any member of the public may make a brief oral statement, as time allows. Per the Federal Advisory Committee Act, public minutes of meetings will include a list of persons who are present at meetings. If joining via phone, callers can expect to incur regular charges for calls they initiate over wireless lines, according to their wireless plan. The Commission will not refund any incurred charges. Callers will incur no charge for calls they initiate over land-line connections to the toll-free telephone number. Closed captioning is available by selecting “CC” in the meeting platform. To request additional accommodations, please email ebohor@usccr.gov at least 10 business days prior to each meeting.

Members of the public are entitled to submit written comments; the comments must be received in the regional office within 30 days following scheduled meetings. Written comments may be emailed to Evelyn Bohor at ebohor@usccr.gov; please include Colorado Committee in the subject line of the transmitting email. Persons who desire additional information may contact the Regional Programs Coordination Unit at 1-312-353-8311.

Records generated from these meetings may be inspected and reproduced at the Regional Programs Coordination Unit Office, as they become available, both before and after each meeting. Records of the meetings will be available via the file sharing website: https://usccr.box.com/s/aq52obvbs8uhkx2a0198po94elwbf2vl. Persons interested in the work of this Committee are directed to the Commission's website, http://www.usccr.gov, or may contact the Regional Programs Coordination Unit at ebohor@usccr.gov.

Agenda

July 16, 2025

I. Welcome and Roll Call

II. Panel Presentations

III. Q & A

IV. Public Comment

V. Adjournment

Agenda

July 31, 2025

I. Welcome and Roll Call

II. Debrief Testimony

III. Plan August 20, 2025 Briefing

IV. Plan Future Briefing

V. Public Comment

VI. Adjournment

Dated: June 25, 2025.
David Mussatt,
Supervisory Chief, Regional Programs Unit.

[FR Doc. 2025-11952 Filed 6-26-25; 8:45 am]

BILLING CODE P